DEPARTMENT OF TRANSPORTATION

Federal Aviation Administration

[Docket No FAA-2013-0316]

Aviation Rulemaking Advisory Committee (ARAC) Airman Testing Standards and Training Working Group (ATSTWG)

AGENCY: Federal Aviation Administration (FAA), DOT.

ACTION: Notice of availability; request for comments

SUMMARY: This notice announces the availability of draft Airman Certification Standards (ACS) documents developed by the ATSTWG for the private pilot certificate and the instrument rating. These documents are available for public review, download, and comment.

DATES: Send comments on or before May 24, 2013.

ADDRESSES: Send comments identified by docket number FAA-2013-0316 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Van L. Kerns, Manager, Regulatory Support Division, FAA Flight Standards Service, AFS 600, FAA Mike Monroney Aeronautical Center P.O. Box 25082 Oklahoma City, OK 73125; telephone (405) 954-4431, email van.l.kerns@faa.gov.

SUPPLEMENTARY INFORMATION:

Background

The FAA has established Docket No. FAA-2013-0316 for the purpose of enabling the public to comment on several draft documents developed by the Airman Testing Standards and Training Working Group. The following documents have been placed in that docket for public review and comment:

(1) Background Information; Industry-Led Changes to FAA Airman Testing Standards and Training

(2) Draft PRIVATE PILOT—AIRPLANE Airman Certification Standards;

(3) Draft Change Tracking Matrix referenced to FAA-S-8081-14B, Private Pilot Practical Test Standards for Airplane (Single Engine Land and Single-Engine Sea Areas of Operation); Section 1: Private Pilot

(4) Draft INSTRUMENT RATING—Airman Certification Standards; and

(5) Draft Change Tracking Matrix referenced to FAA-S-8081-4E, Instrument Rating Practical Test Standards for Airplane, Helicopter, and Powered Lift

On August 30, 2012, the ARAC Executive Committee accepted the FAA's assignment of a new task arising from recommendations of the Airman Testing Standards and Training Aviation Rulemaking Committee (ARC). The ARC recommended ways to ensure that the FAA's airman testing and training materials better support reduction of fatal general aviation accidents. The new task instructed the ARAC to integrate aeronautical knowledge and flight proficiency requirements for the private pilot and flight instructor certificates and the instrument rating into a single ACS document for each type of certificate and rating; to develop a detailed proposal to realign FAA training handbooks with the ACS documents; and to propose knowledge test item bank questions consistent with the integrated ACS documents and the principles set forth in the ARC's recommendations.

The FAA announced the ARAC's acceptance of this task through a Federal Register Notice published on September 12, 2012 [77 FR 56251]. This Notice described the task elements and solicited participants for the ATSTWG, which subsequently formed and began its work in November 2012.

Consistent with the initial part of this tasking, the ATSTWG has developed draft ACS documents for the private pilot certificate and the instrument rating. These documents align the aeronautical knowledge testing standards with the flight proficiency standards set out in the existing Practical Test Standards (PTS). In addition to supporting the FAA's effort to improve the relevance, reliability, validity, and effectiveness of aeronautical testing and training materials, the draft ACS documents support the FAA's goal of reducing fatal general aviation accidents by incorporating task-specific risk management considerations into each Area of Operation.

The ATSTWG continues the necessary work to develop the authorized instructor ACS document and complete its remaining assignments. These include developing a detailed proposal to realign and, as appropriate, streamline and consolidate existing FAA guidance material (e.g., handbooks) with each integrated ACS document; and to propose methodologies to ensure that knowledge test item bank questions are consistent with both the ACS documents and the test question development principles set forth in the ARC's recommendations.

The ACS documents are designed as the foundation for transitioning to a more integrated and systematic approach to airman certification testing and training. To accomplish this objective and achieve its overall safety goals, the ACS documents support the safety management system (SMS) framework. SMS methodology provides a systematic approach to achieving acceptable levels of safety risk. The ATSTWG is constructing ACS, associated guidance, and test item bank question components of the airman certification system around the four functional components of SMS:

• Safety Policy that demonstrates FAA senior management commitment to continually improve safety through enhancements to the airman certification testing and training system; specifically, better integration of the aeronautical knowledge, flight proficiency, and risk management components of the airman certification system;

• Safety Risk Management processes that create a structured means of safety risk management decision making to identify, assess, and determine acceptable level of risk associated with regulatory changes, safety recommendations, or other factors requiring modification of airman testing and training materials;

• Safety Assurance processes which allow increased confidence on the part of industry and FAA stakeholders in risk controls through a continual review of FAA products and the systematic, prompt and appropriate incorporation of changes arising from new regulations, data analysis, and safety recommendations; and

• Safety Promotion framework to support a positive safety culture in the form of training and ongoing engagement with both external stakeholders (e.g., the aviation training industry) and FAA policy divisions.

Given the foundational nature of the ACS documents and their importance in the ongoing evolution of the FAA's airman certification testing and training system, the ATSTWG wishes to make draft ACS documents for the private pilot certificate and the instrument rating available to the public for review and comment. The ATSTWG will use the comments it receives to refine and inform its continuing work on this project. Future drafts developed by the ATSTWG may also be published for this purpose.

Issued in Washington, DC on April 19, 2013.
Brenda D. Courtney,
Alternate Designated Federal Officer, Aviation Rulemaking Advisory Committee.

[FR Doc. 2013-09684 Filed 4-23-13; 8:45 am]

BILLING CODE 4910-13-P